DEPARTMENT OF THE TREASURY

Alcohol and Tobacco Tax and Trade Bureau

27 CFR Part 9

[Docket No. TTB-2020-0012; Notice No. 197]

RIN 1513-AC64

Proposed Establishment of the Lower Long Tom Viticultural Area

AGENCY: Alcohol and Tobacco Tax and Trade Bureau, Treasury.

ACTION: Notice of proposed rulemaking.

SUMMARY: The Alcohol and Tobacco Tax and Trade Bureau (TTB) proposes to establish the approximately 25,000-acre “Lower Long Tom” viticultural area in portions of Lane and Benton Counties in Oregon. The proposed viticultural area lies entirely within the existing Willamette Valley viticultural area. TTB designates viticultural areas to allow vintners to better describe the origin of their wines and to allow consumers to better identify wines they may purchase. TTB invites comments on this proposed addition to its regulations.

DATES: Comments must be received by December 22, 2020.

ADDRESSES: You may electronically submit comments to TTB on this proposal, and view copies of this document, its supporting materials, and any comments TTB receives on it within Docket No. TTB-2020-0012 as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Order 120-01, dated December 10, 2013 (superseding Treasury Order 120-01, dated January 24, 2003), to the TTB Administrator to perform the functions and duties in the administration and enforcement of these provisions.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Lower Long Tom Petition

TTB received a petition from Dieter Boehm, owner of High Pass Vineyard and Winery, proposing the establishment of the approximately 25,000-acre “Lower Long Tom” AVA in portions of Lane and Benton Counties in Oregon. The proposed Lower Long Tom AVA lies entirely within the established Willamette Valley AVA (27 CFR 9.90) and does not overlap any other existing or proposed AVA. Within the proposed AVA are 10 wineries and 22 commercially-producing vineyards that cover a total of approximately 492 acres.

The distinguishing features of the proposed Lower Long Tom AVA are its topography, soils, and climate. Unless otherwise noted, all information and data pertaining to the proposed AVA contained in this document are from the petition for the proposed Lower Long Tom AVA and its supporting exhibits.

Name Evidence

The proposed Lower Long Tom AVA takes its name from the Long Tom River, which runs along the eastern boundary of the proposed AVA. According to the petition, the origin of the river's name is uncertain, but it is likely a poor phonetical adaptation of the native name for the river, “Lama Tum Buff.” The petition included several examples of the use of “Long Tom” within the region of the proposed AVA, including the Long Tom Grange, an organization which serves farmers and their communities in the region of the proposed AVA. The grange also organizes the Long Tom Country Trail, where “visitors can discover the beauty and the bounty of the Long Tom River watershed.” ¹ The Long Tom Watershed Council ² works to improve the water quality of the Long Tom River and its watershed, including the region within the proposed AVA.

¹ Turner, David. Along the Long Tom River (Junction City, OR: Paw Print, 2017), page 112.

² www.longtom.org.

The petitioner proposed the name “Lower Long Tom” to differentiate the region of the proposed AVA from the region closer to the headwaters of the Long Tom River. The “lower” portion of the river is defined as the portion that flows from Fern Ridge Lake to the Willamette River, as shown in a map in the book Along the Long Tom River which was included in the petition.³ A 2016 public meeting notice from the Long Tom Watershed Council uses a similar definition of the lower portion of the river, stating that the council received funding to “improve the function and habitat of the lower [sic] Long Tom River from the Fern Ridge Dam downstream to the Willamette River.” ⁴

³ Turner, Along the Long Tom River, page 3.

⁴ http://www.longtom.org/nov-29-publilc-meeting-lower-long-tom-river-habitat-improvement-plan.

Other reports from the Long Tom Watershed Council also use the term “Lower Long Tom” to refer to the region of the proposed AVA. For example, in its 2005 conservation strategy report, the Council states, “Fluvial cutthroat trout migrate from the Willamette to streams in the lower Long Tom for spawning, juvenile rearing, and refuge.” ⁵ Another example of name usage from the Council's website is a web page titled “Lower Long Tom River Habitat Enhancement Project Homepage,” ⁶ which describes watershed improvement projects in the Lower Long Tom region. One such project is described as “Lower Long Tom Riparian Enhancement at Stroda's,” ⁷ which involved planting native trees and removing invasive plant species at the Stroda Brothers' Farm. TTB notes that the address for Stroda Brother's Farm is within the proposed AVA.⁸

⁵ http://www.longtom.org/wp-content/uploads/2012/05/Conservation-Strategy-with-maps-goals.pdf, page 5.

⁶ longtom.org/lowerlongtom/.

⁷ longtom.org/lower-long-tom-riparian-enhancement-at-strodas.

⁸ https://www.chamberofcommerce.com/monroe-or/pumpkin-patches/32703953-stroda-brothers-farm.

Other examples of the use of the term “Lower Long Tom” to describe the region of the proposed AVA are found in descriptions of the pioneer families along the river. For example, the book Along the Long Tom River also notes that early settlers to the area made their farms “[i]n the Lower Long Tom area, downstream from the confluences of Spencer and Coyote Creeks * * *.” ⁹

⁹ Turner, Along the Long Tom River, page 39.

Boundary Evidence

The proposed Lower Long Tom AVA is located in the southern portion of the existing Willamette Valley AVA, approximately 20 miles northwest of the city of Eugene, Oregon, and approximately the same distance south of the city of Corvallis, Oregon. The Long Tom River and its valley are adjacent to the eastern boundary of the proposed AVA. The northern boundary follows the Benton-Lane County line and a series of creeks to separate the proposed AVA from the flatter, lower elevations of the Willamette Valley. The eastern boundary of the proposed AVA primarily follows the 360-foot elevation contour to separate the rolling hills of the proposed AVA from the flatter river valley lands. The southern boundary follows a series of section lines to separate the proposed AVA from Fern Ridge Lake, which marks the southern limit of the portion of the Long Tom River referred to as the Lower Long Tom. The western boundary follows the 1,000-foot elevation contour to separate the proposed AVA from the higher, steeper elevations of the Coast Range.

Distinguishing Features

The distinguishing features of the proposed Lower Long Tom AVA are its topography, soils, and climate.

Topography

The topography of the proposed Lower Long Tom AVA is characterized by chains of rolling hills separated by west-east trending valleys that were cut by the tributaries of the Long Tom River. According to the petition, the ridges of the hills rise to approximately 1,000 feet in the western portion of the proposed AVA and descend to approximately 550 feet before dropping to the Willamette Valley floor, which is to the north and east of the proposed AVA. The majority of vineyards within the proposed AVA are planted at elevations between 450 and 650 feet. The steepest slope angles are about 45 percent, with the average slope angle being about 20 percent.

As previously stated, the high, rugged elevations of the Coast Range are to the west of the proposed AVA. To the north of the proposed AVA, the elevations descend to the floor of the Willamette Valley. To the immediate east of the proposed AVA is the lower, flatter valley of the Long Tom River. Farther east is the Willamette Valley floor. To the south of the proposed AVA are lower hills, the watershed of the upper Long Tom River, and Fern Ridge Lake.

Soils

The most common soils within the proposed Lower Long Tom AVA are Bellpine and Bellpine/Jory complex. Loess soils, which are common elsewhere in the Willamette Valley AVA, are not present in the proposed AVA. Bellpine soil is the most common soil in the Lane County portion of the proposed AVA. It is derived from decomposed sedimentary marine uplift over a sandstone or siltstone substrate and is described as a well-drained soil with a depth of 20-36 inches. According to the petition, the low water-holding capacity of Bellpine soils creates stress on the vines that fosters ripening of the fruit. The relatively shallow depth of the soil also forces roots deep into the substrate for nutrients and water. The petition states that when grapevine roots come into contact with the substrate, the nutrients and minerals in the substrate influence the tannin structure and ageability of the wines produced from those grapes. Moving north into the Benton County portion of the proposed AVA, the soils transition to the Bellpine/Jory complex. This soil combines sedimentary and volcanic components and has a slightly greater water-holding capacity and slightly greater depth than Bellpine soil. Other minor soils found throughout the proposed Lower Long Tom AVA include Dupee, Nekia, Willakenzie, and Hazelair soils.

To the north of the proposed AVA, the soils are predominately Jory soils. These soils are derived from volcanic sources and are deeper and more fertile than Bellpine or Bellpine/Jory complex soils. Jory soils also have a greater water-holding capacity than either of the primary soil types of the proposed Lower Long Tom AVA. To the east of the proposed AVA, the soils are described as deep alluvial river bottom soils with higher fertility levels and greater water-holding capacity than the soils of the proposed AVA. According to the petition, the higher fertility of alluvial soils can promote excessive vegetation growth in grapevines. The region to the south of the proposed AVA contains mostly Bellpine soils, like the proposed AVA, but without the Bellpine/Jory complex. To the west of the proposed AVA, the predominate soils are of the Witzel and Ritner series, which are both derived from decomposed igneous rocks and contain varying amounts of rocks and cobbles.

Climate

According to the petition, the proposed Lower Long Tom AVA's location east of the highest peaks of the Coast Range shields the proposed AVA from the marine air moving inland from the Pacific Ocean. The petition states that the high peaks, in particular Prairie Mountain, which rises over 3,000 feet, divert the cool marine air flowing inland from the Pacific Ocean away from the proposed AVA and into the regions to the north and south. Because the proposed AVA is sheltered from the marine air, nocturnal temperatures are warmer than they are in more exposed regions to the north and south of the proposed AVA. The petition states that Pinot Noir grapes are the most commonly grown grape varietal in the proposed AVA. Further, the petition claims that when grown in the proposed AVA, Pinot Noir grapes have a deeper color, an intensive berry flavor, and earthy notes that are not as pronounced in Pinot Noir grapes grown in the cooler surrounding regions outside of the proposed AVA.

The petition did not include temperature data from within the proposed AVA to support these claims. However, it did include data relating to harvest dates of Pinot Noir from vineyards within the proposed AVA and vineyards to the north and south. Harvest date information was not included for the regions to the east and west of the proposed AVA. The following tables summarize the harvest date information.

Table 1—Harvest Dates of Pinot Noir
Vineyard (direction from proposed AVA) | Harvest year: 2012 | Harvest year: 2013 | Harvest year: 2014 | Harvest year: 2015 | Harvest year: 2016 | 5-year average
Union School Vineyard (within) | Oct. 2 | Sept. 19 | Sept. 15 | Sept. 13 | Sept. 9 | Sept. 20.
High Pass Vineyard (within) | Oct. 6 | Oct. 4 | Sept. 23 | Sept. 18 | Sept. 16 | Sept. 26.
Walnut Ridge Vineyard (within) | Oct. 8 | Oct. 3 | Sept. 28 | Sept. 14 | Sept. 12 | Sept. 25.
Benton Lane Vineyard (within) | Oct. 7 | Sept. 16 | Sept. 10 | Sept. 1 | Sept. 1 | Sept. 18.
Pfeiffer Vineyard (within) | Oct. 2 | Sept. 16 | Sept. 16 | Sept. 4 | Sept. 2 | Sept. 17.
King Estate Vineyard (south) | Oct. 8 | Oct. 4 | Sept. 23 | Sept. 23 | Sept. 17 | Sept. 28.
Lavell Vineyards (south) | Oct. 9 | Sept. 20 | Sept. 22 | Sept. 25 | Sept. 14 | Sept. 27.
Croft Vineyard (north) | Oct. 14 | Oct. 4 | Sept. 20 | Sept. 24 | Sept. 19 | Oct. 2.
Elton Vineyard (north) | Oct. 4 | Sept. 27 | Sept. 23 | Sept. 15 | Sept. 19 | Sept. 25.
Willamette Valley Estate Vineyard (north) | Oct. 10 | Oct. 10 | Oct. 5 | Sept. 25 | Sept. 21 | Oct. 1.
Chapleton Hills Vineyard (north) | Oct. 11 | Oct. 10 | Sept. 20 | Sept. 26 | Oct. 2 | Oct. 1.
Broadley Vineyards (north) | Oct. 9 | Sept. 19 | Sept. 16 | Sept. 9 | Sept. 13 | Sept. 24.

Table 2—Average Harvest Dates of Pinot Noir by Region
Region | Method 1 average ¹⁰ | Method 2 average ¹¹
Proposed AVA | Sept. 22 | Sept. 20.
North | Sept. 28 | Sept. 28.
South | Sept. 27 | Sept. 26.

The five-year average harvest dates for the vineyard locations within the proposed Lower Long Tom AVA are earlier than the five-year average harvest dates for vineyards to the south of the proposed AVA. When comparing the five-year average harvest dates within the proposed AVA to the five-year average harvest dates north of the proposed AVA, two vineyard locations to the north have earlier harvest dates than one of the vineyards within the proposed AVA. However, when comparing the average harvest dates by region, the average harvest date within the proposed AVA is earlier than the average harvest date for the regions to the north and south, regardless of the method used to calculate the average harvest date. The harvest date data supports the petitioner's claim that growing season temperatures within the proposed AVA are generally warmer than the more marine-influenced temperatures of the regions to the north and south, and that such temperature variations lead harvests for Pinot Noir grapes grown within the proposed AVA to occur earlier than harvests for the same grape varietal grown within regions to the north and south of the proposed AVA.

¹⁰ According to the petition, Method 1 involved finding the halfway point between the earliest and latest harvest date for each region.

¹¹ According to the petition, Method 2 involved calculating the sum of positive deviations from the earliest harvest date divided by the number of locations and added to the earliest date.

Summary of Distinguishing Features

In summary, the topography, soils, and climate of the proposed Lower Long Tom AVA distinguish it from the surrounding regions. Within the proposed AVA, the topography consists of east-west trending valleys cut by tributaries of the Long Tom River and chains of rolling hills that are sheltered from the marine air that moves inland from the Pacific Ocean. The predominate soil series within the proposed AVA are Bellpine or Bellpine/Jory complex, which are described as thin soils derived from sedimentary marine uplift and marine uplift mixed with volcanic material. The soils have a low water-holding capacity. The proposed AVA has a warm growing season climate, as suggested by the early harvest dates for Pinot Noir.

The region to the north of the proposed AVA is characterized by the low, flat Willamette Valley floor. Soils are predominately of the Jory series, which are deep soils derived from volcanic sources. The soils have a greater water-holding capacity than the soils of the proposed AVA. Average harvest dates for vineyards in this region are later than harvest dates in the proposed AVA, suggesting a cooler growing season climate.

To the immediate east of the proposed AVA is the flat valley of the Long Tom River, while the valley of the Willamette River is farther to the east. Soils to the east of the proposed AVA are predominately deep alluvial soils with higher water-holding capacities. To the west of the proposed AVA are the high, rugged elevations of the Coast Range, including Prairie Mountain, which divert the cold marine air away from the proposed AVA. Soils are mostly of the Witzel and Ritner series.

To the south of the proposed AVA are the lower hills of the watershed of the upper Long Tom River, as well as Fern Ridge Lake. Because elevations to the south of the proposed AVA are lower, marine air is able to reach this area. As a result, the growing season climate is cooler and annual harvest dates are later than within the proposed AVA. Soils in this region are mostly Bellpine, similar to the soils of the proposed AVA, but without the Bellpine/Jory complex.

Comparison of the Proposed Lower Long Tom AVA to the Existing Willamette Valley AVA

T.D. ATF-162, which published in the Federal Register on December 1, 1983 (48 FR 54220), established the Willamette Valley AVA in northwest Oregon. The Willamette Valley AVA is described in T.D. ATF-162 as a broad alluvial plain surrounded by mountains. Most elevations within the AVA do not exceed 1,000 feet, which is generally considered to be the maximum elevation for reliable grape cultivation in the region. Soils are described as primarily silty loams and clay loams.

The proposed Lower Long Tom AVA is located in the northwestern portion of the Willamette Valley AVA and shares some broad characteristics with the established AVA. For example, Bellpine soil, which is the most common soil in the proposed AVA, is a silty clay loam. Elevations within the proposed AVA are also generally below 1,000 feet.

However, the proposed Lower Long Tom AVA is described as a chain of hills, compared to the broad, treeless plain that comprises most of the Willamette Valley AVA. Additionally, the proposed AVA's location east of Prairie Mountain creates a unique microclimate. Prairie Mountain diverts the cold marine air to the north and south of the proposed AVA, giving the proposed AVA an earlier average harvest date and warmer growing season temperatures than the less-sheltered regions of the Willamette Valley AVA.

TTB Determination

TTB concludes that the petition to establish the approximately 25,000-acre Lower Long Tom AVA merits consideration and public comment, as invited in this notice of proposed rulemaking.

Boundary Description

See the narrative description of the boundary of the petitioned-for AVA in the proposed regulatory text published at the end of this proposed rule.

Maps

The petitioner provided the required maps, and they are listed below in the proposed regulatory text. You may also view the proposed Lower Long Tom AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Lower Long Tom,” will be recognized as a name of viticultural significance under § 4.39(i)(3) of the TTB regulations (27 CFR 4.39(i)(3)). The text of the proposed regulation clarifies this point. Consequently, wine bottlers using the name “Lower Long Tom” in a brand name, including a trademark, or in another label reference as to the origin of the wine, would have to ensure that the product is eligible to use the AVA name as an appellation of origin if this proposed rule is adopted as a final rule. TTB is not proposing “Long Tom,” standing alone, as a term of viticultural significance if the proposed AVA is established because the term “Long Tom” is used to refer to the entire region along the Long Tom River and not just the lower portion of the river where the proposed AVA is located. Accordingly, the proposed part 9 regulatory text set forth in this document specifies only the full name “Lower Long Tom” as a term of viticultural significance for purposes of part 4 of the TTB regulations.

The approval of the proposed Lower Long Tom AVA would not affect any existing AVA, and it establishment would not affect any bottlers using “Willamette Valley” as an appellation of origin or in a brand name for wines made from grapes grown within the Lower Long Tom AVA. The establishment of the proposed Lower Long Tom AVA would allow vintners to use “Lower Long Tom” and “Willamette Valley” as appellations of origin for wines made from grapes grown within the proposed Lower Long Tom AVA, if the wines meet the eligibility requirements for the appellation.

Public Participation

Comments Invited

TTB invites comments from interested members of the public on whether it should establish the proposed Lower Long Tom AVA. TTB is also interested in receiving comments on the sufficiency and accuracy of the name, boundary, soils, climate, topography, and other required information submitted in support of the petition. In addition, given the proposed Lower Long Tom AVA's location within the existing Willamette Valley AVA, TTB is interested in comments on whether the evidence submitted in the petition regarding the distinguishing features of the proposed AVA sufficiently differentiates it from the existing Willamette Valley AVA. TTB is also interested in comments on whether the geographic features of the proposed AVA are so distinguishable from the surrounding Willamette Valley AVA that the proposed Lower Long Tom AVA should no longer be part of that AVA. Please provide any available specific information in support of your comments.

Because of the potential impact of the establishment of the proposed Lower Long Tom AVA on wine labels that include the term “Lower Long Tom” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this document by using one of the following methods:

• Federal e-Rulemaking Portal: You may send comments via the online comment form posted with this document within Docket No. TTB-2020-0012 as posted on “Regulations.gov,” the Federal e-rulemaking portal, at https://www.regulations.gov. A direct link to that docket is available under Notice No. 197 on the TTB website at https://www.ttb.gov/wine/notices-of-proposed-rulemaking. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW, Box 12, Washington, DC 20005.

Please submit your comments by the closing date shown above in this document. Your comments must reference Notice No. 197 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2020-0012 on the Federal e-rulemaking portal, Regulations.gov, at https://www.regulations.gov. A direct link to that docket is available on the TTB website at https://www.ttb.gov/wine/notices-of-proposed-rulemaking under Notice No.197. You may also reach the relevant docket through the Regulations.gov search page at https://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5 x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9.___ Lower Long Tom.

(a) Name. The name of the viticultural area described in this section is “Lower Long Tom”. For purposes of part 4 of this chapter, “Lower Long Tom” is a term of viticultural significance.

(b) Approved maps. The four United States Geological Survey (USGS) 1:24,000 scale topographic maps used to determine the boundary of the Lower Long Tom viticultural area are titled:

(1) Cheshire, Oregon, 1984;

(2) Horton, Oregon, 1984;

(3) Glenbrook, Oregon, 1984; and

(4) Monroe, Oregon, 1991.

(c) Boundary. The Lower Long Tom viticultural area is located in Benton and Lane Counties, in Oregon. The boundary of the Lower Long Tom viticultural area is as described below:

(1) The beginning point is on the Cheshire map at the intersection of Franklin Road and the 360-foot elevation contour in Section 43, T16S/R5W. From the beginning point, proceed west on Franklin Road to its intersection with Territorial Road (known locally as Territorial Highway); then

(2) Proceed southwesterly along Territorial Highway to its intersection with an unnamed, unimproved road north of Butler Road in Section 44, T16S/R5W; then

(3) Proceed west in a straight line to the western boundary of Section 29, T16S/R5W; then

(4) Proceed north along the western boundary of Section 29 to the southern boundary of Section 57, T16S/R5W; then

(5) Proceed northwest in a straight line to the right angle in the western boundary of Section 57, T16S/R5W; then

(6) Proceed west in a straight line, crossing through Sections 58 and 38, to the intersection of Sections 23, 24, 25, and 26, T16S/R6W; then

(7) Proceed north along the western boundary of Section 24 to the first intersection with the 800-foot elevation contour; then

(8) Proceed northerly, then northwesterly along the 800-foot elevation contour, crossing onto the Horton map, to the intersection of the 800-foot elevation contour and an unnamed, unimproved road with a marked 782-foot elevation point in Section 10, T16S/R6W; then

(9) Proceed west in a straight line to the 1,000-foot elevation contour; then

(10) Proceed northerly along the 1,000-foot elevation contour, crossing onto the Glenbrook map, to the elevation contour's third intersection with the Lane-Benton County line in Section 10, T15S/R6W; then

(11) Proceed east along the Lane-Benton County line, crossing onto the Monroe map, to the R6W/R5W range line; then

(12) Proceed north along the R6W/R5W range line to its intersection with Cherry Creek Road; then

(13) Proceed northeasterly along Cherry Creek Road to its intersection with Shafer Creek along the T14S/T15S township line; then

(14) Proceed northeasterly along Shafer Creek to its intersection with the 300-foot elevation contour; then

(15) Proceed easterly along the 300-foot elevation contour, crossing Territorial Highway, to the intersection of the elevation contour with the marked old railroad grade in Section 33/T14S/R5W; then

(16) Proceed south along the old railroad grade to its intersection with the southern boundary of Section 9, T15S/R5W; then

(17) Proceed west along the southern boundary of Section 9 to its intersection with Territorial Highway; then

(18) Proceed south along Territorial Highway to its intersection with the 360-foot elevation contour in Section 16; T15S/R5W; then

(19) Proceed southwesterly along the 360-foot elevation contour, crossing Ferguson Creek, and continuing generally southeasterly along the elevation contour, crossing onto the Cheshire map and crossing over Owens Creek and Jones Creek, to the point where the elevation contour crosses Bear Creek and turns north in Section 52; T16S/R5W; then

(20) Continue northeasterly along the 360-foot elevation contour to the point where it turns south in the town of Cheshire; then

(21) Continue south along the 360-foot elevation contour and return to the beginning point.

Signed:
Mary G. Ryan,
Administrator.
Approved:
Timothy E. Skud,
Deputy Assistant Secretary (Tax, Trade, and Tariff Policy).

[FR Doc. 2020-22603 Filed 10-22-20; 8:45 am]

BILLING CODE 4810-31-P